DEPARTMENT OF DEFENSE

Department of the Army, Corps of Engineers

Intent to Prepare an Environmental Impact Statement (EIS) for the Donlin Gold Project

AGENCY: U.S. Army Corps of Engineers, Department of Defense.

ACTION: Notice of intent.

SUMMARY: The Alaska District, U.S. Army Corps of Engineers (Corps) intends to prepare an Environmental Impact Statement (EIS) to identify and analyze the potential impacts associated with the proposed Donlin Gold Project, which would be an open pit, hardrock gold mine located 10 miles north of the village of Crooked Creek, Alaska. The Corps is the lead Federal agency; the Bureau of Land Management (BLM), the U.S. Fish and Wildlife Service, the Pipeline and Hazardous Materials Safety Administration, the Environmental Protection Agency, and the Alaska Department of Natural Resources will serve as cooperating agencies in developing the EIS. The Tribal governments of Crooked Creek, Chuathbaluk, and Napaimute have also indicated their intention to serve as cooperating agencies. The Corps will be evaluating a permit application for work and/or discharges of pollutants under Section 404 of the Clean Water Act and Section 10 of the Rivers and Harbors Act of 1899. The EIS will be used as a basis for the permit decision in compliance with the National Environmental Policy Act (NEPA).

FOR FURTHER INFORMATION CONTACT: Questions about the proposed action and the DEIS should be referred to: Mr. Don Kuhle, Regulatory Division, telephone: (907) 753-2780, email: don.p.kuhle@usace.army.mil, or mail: U.S. Army Corps of Engineers, P.O. Box 6898, Joint Base Elmendorf Richardson, AK 99506-0898. To be added to the project mailing list and for additional information, please visit the following web site: http://www.donlingoldeis.com.

SUPPLEMENTARY INFORMATION:

1. Proposed Action. Donlin Gold LLC is proposing the development of an open pit, hardrock gold mine located 277 miles west of Anchorage, 145 miles northeast of Bethel, and 10 miles north of the community of Crooked Creek. The proposed project would require approximately 3 to 4 years to construct with a projected mine life of approximately 27.5 years. Major project components include excavation of an open pit, that ultimately would be approximately 2.2 miles long by 1 mile wide by 1,850 feet deep; a waste treatment facility (tailings impoundment) approximately 1 mile long, and ultimately covering 2,350 acres; a waste rock facility covering approximately 2,300 acres; a mill facility processing approximately 59,000 short tons of ore per day; a natural gas-fired power plant with a total connected load of 227 MW, supplied by a 313-mile, small-diameter (approximately 14-inches), natural gas pipeline from the west side of Cook Inlet to the mine site; and transportation infrastructure including a 5,000-foot airstrip, a 30-mile-long road from the mine site to a new barge landing near Jungjuk Creek on the Kuskokwim River, and barge terminal facilities in Bethel. The proposed mine and related facilities would have a total foot print of approximately 16,300 acres. There is currently no road or rail access to the site, which is isolated from existing power and other related infrastructure.

The pipeline route would originate at the Beluga National Gas Pipeline, with a single compressor station at milepost 5. The route proceeds north to the Skwentna River, continuing alongside the Skwentna River to Puntilla Lake. It then crosses the Alaska Range through Rainy Pass and Rohn, before turning southwest to Farewell. The route then runs west along the north side of the Alaska Range to cross the Kuskokwim River at approximately Devil's Elbow. The last 80 miles follow ridgelines north of the Kuskokwim River to the Donlin Gold mine site.

2. Alternatives. A reasonable range of alternatives will be identified and evaluated through scoping and the alternatives development process.

3. Scoping Process. The scoping period will extend from December 14, 2012 through March 29, 2013.

a. Public involvement. The Corps invites full public participation to promote open communication on the issues to be addressed in preparation of the EIS regarding the proposed action. All Federal, State, Tribal, and local agencies, and other interested persons or organizations, are urged to participate in the NEPA scoping process. Scoping meetings will be conducted to inform interested parties of the proposed project, receive public input on the development of proposed alternatives to be reviewed in the EIS, and to identify significant issues to be analyzed.

b. Scoping meetings. The Corps plans to hold scoping meetings in Crooked Creek, Aniak, Bethel, and Anchorage in mid-January 2013. Scoping meetings in Akiak, Nunapitchuk, Kipnuk, Quinhagak, Toksook Bay, Hooper Bay, Emmonak, St. Mary's, Holy Cross, and McGrath are planned for late-January through March 2013. Information about these meetings and meeting dates will be published locally, posted at http://www.donlingoldeis.com, and available by contacting the Corps as previously described. A description of the proposed project will be posted on the project web site prior to these meetings to help the public focus their scoping comments.

4. Issues To Be Analyzed in the EIS. The EIS will analyze the potential social, economic, physical, biological, and cultural resource impacts of the proposed project. Numerous issues will be analyzed in depth in the EIS related to the effects of mine and associated infrastructure construction, operation, and closure. These issues will include, but will not be limited to, the following: Wetlands, water quality, air quality, hazardous materials, fish and wildlife, special status species, vegetation, cultural resources, subsistence, human health, land use and management, socioeconomics, and cumulative impacts.

5. Other Environmental Review and Consultation Requirements. Other environmental review and consultation requirements include Executive Order 13175 Consultation and Coordination with Indian Tribal Governments, Section 106 of the National Historic Preservation Act of 1966, Endangered Species Act consultation; and subsistence uses in accordance with Section 810 of the Alaska National Interest Lands Conservation Act.

6. Land Ownership. The proposed mine is located predominately on lands owned by the Kuskokwim Corporation and the Calista Corporation, although some project components would be located on BLM, State of Alaska and CIRI Inc. lands.

7. Estimated Date Draft EIS Available to Public. It is anticipated that the Draft EIS will be available in August 2014 for public review.

Dated: November 28, 2012.
Don P. Kuhle,
Project Manager, Alaska District, U.S. Army Corps of Engineers.

[FR Doc. 2012-30198 Filed 12-13-12; 8:45 am]

BILLING CODE 3720-58-P